DEPARTMENT OF STATE

[Public Notice 7218]

30-Day Notice of Proposed Information Collection: Exchange Programs Alumni Web Site Registration, DS-7006

ACTION: Notice of request for public comment and submission to OMB of proposed collection of information.

SUMMARY: The Department of State has submitted the following information collection request to the Office of Management and Budget (OMB) for approval in accordance with the Paperwork Reduction Act of 1995.

• Title of Information Collection: Exchange Programs Alumni Website Registration.

• OMB Control Number: None.

• Type of Request: Existing collection in use without OMB control number.

• Originating Office: Bureau of Educational and Cultural Affairs, ECA-IIP/EX.

• Form Number: DS-7006.

• Respondents: Exchange program alumni and current participants of U.S. government-sponsored exchange programs, Americans who hosted or programmed an exchange participant, or employees of a program agency administering an exchange program.

• Estimated Number of Respondents: 15,000.

• Estimated Number of Responses: 15,000.

• Average Hours per Response: 10 minutes.

• Total Estimated Burden: 2,500 hours.

• Frequency: One-time per registrant.

• Obligation to Respond: Required to Obtain or Retain a Benefit.

DATES: Submit comments to the Office of Management and Budget (OMB) for up to 30 days from October 28, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Michael Quizon, Program Analyst, ECA-IIP/EX; State Department; SA-5, Room 4-V01; Washington, DC 20522-0504, who may be reached on 202-632-3357 or at quizonmd@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Exchange Programs Alumni Web site requires information to process users' voluntary requests for participation in the Web site. Other than contact information, which is required for website registration, all other information is provided on a voluntary basis. Participants also have the option of restricting access to their information.

Respondents to this registration form include: U.S. government-sponsored exchange program participants and alumni, hosts, and guests. Alumni Affairs collects data from users to not only verify their status or participation in a program, but to also connect alumni with other alumni and aid embassy staff in their alumni outreach.

Methodology

Information provided for registration is collected electronically via the Alumni website, alumni.state.gov.

Additional Information

The registration form is dynamic, presenting certain questions according to the user type. The Exchange Programs Alumni Web site is also secure and encrypted.

Dated: October 21, 2010.
Julianne Paunescu,
Acting Director, Office of Policy and Evaluation, Bureau of Educational and Cultural Affairs, Department of State.

[FR Doc. 2010-27299 Filed 10-27-10; 8:45 am]

BILLING CODE 4710-05-P